DEPARTMENT OF DEFENSE

Department of the Army

Advisory Committee Meeting Notice

AGENCY: Department of the Army, DOD.

ACTION: Notice of meeting.

SUMMARY: Pursuant to the Federal Advisory Committee Act of 1972 (5 U.S.C., Appendix, as amended), the Sunshine in the Government Act of 1976 (U.S.C. 552b, as amended) and 41 Code of the Federal Regulations (CFR 102-3.140 through 160, the Department of the Army announces the following committee meeting:

Name of Committee: Distance Learning/Training Technology Subcommittee.

Date: July 22-23, 2008.

Place: U.S. Army Signal Center at Fort Gordon, GA, LandWarNet eUniversity Facility, Bldg 29610, Fort Gordon, GA 30905.

Time: 8:30 a.m. to 4 p.m. (July 22, 2008). 8:30 a.m. to 4 p.m. (July 23, 2008).

Proposed Agenda: Starting point of the meeting will be an overview of the LandWarNet eUniversity followed up discussions on the use of technology to enhance the learning environment.

FOR FURTHER INFORMATION CONTACT: For information, please contact Ms. Amy Loughran at amy.loughran@us.army.mil or (757) 788-2155. Written submissions are to be submitted to the following address: Distance Learning/Training Technology Subcommittee, ATTN: Alternate Designated Federal Officer (Loughran), 5 Fenwick Road, Building 161, Room 108, Fort Monroe, Virginia 23651.

SUPPLEMENTARY INFORMATION: Meeting of the Advisory subcommittee is open to the public. Attendance will be limited to those persons who have notified the Advisory Subcommittee Management Office at least 10 calendar days prior to the meeting of their intention to attend.

Filing Written Statement: Pursuant to 41 CFR 102-3.140d, the Committee is not obligated to allow the public to speak, however, interested persons may submit a written statement for consideration by the Subcommittees. Individuals submitting a written statement must submit their statement to the Alternate Designated Federal Officer (ADFO) at the address listed (see FOR FURTHER INFORMATION CONTACT). Written statements not received at least 10 calendar days prior to the meeting, may not be provided to or considered by the subcommittees until its next meeting.

The ADFO will review all timely submissions with the Chairperson, and ensure they are provided to the members of the respective subcommittee before the meeting. After reviewing written comments, the Chairperson and the ADFO may choose to invite the submitter of the comments to orally present their issue during open portion of this meeting or at a future meeting.

The ADFO, in consultation with the Chairperson, may allot a specific amount of time for the members of the public to present their issues for review and discussion.

Brenda S. Bowen,
Army Federal Register Liaison Officer.

[FR Doc. E8-15328 Filed 7-3-08; 8:45 am]

BILLING CODE 3710-08-P